FEDERAL COMMUNICATIONS COMMISSION

Notice of Public Information Collection(s) Being Reviewed by the Federal Communications Commission

June 16, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit PRA comments August 25, 2003. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554 or via the internet to Judith-B.Herman@fcc.gov.

FOR FURTHER INFORMATION CONTACT: For additional information or copies of the information collections contact Judy B. Herman at 202-418-0214 or via the internet at Judith-B.Herman@fcc.gov.

SUPPLEMENTARY INFORMATION: OMB Control No.: 3060-0940.

Title: Amendment of Part 95 of the Commission's Rules to Provide Regulatory Flexibility in the 218-219 MHz Service, WT Docket No. 96-169.

Form No.: N/A.

Type of Review: Extension of a currently approved collection.

Respondents: Business or other for profit.

Number of Respondents: 140.

Estimated Time Per Response: .50-4 hours.

Frequency of Response: On occasion and one-time reporting requirements.

Total Annual Burden: 2,380 hours.

Annual Reporting and Recordkeeping Cost Burden: N/A.

Needs and Uses: Sections 1.2105(a)(2)(xi) and 95.816(b) offer various financial restructuring options to the 218-219 MHz licensees regarding their existing installment payment obligations and permits eligible licensees to choose (1) reamortization and resumption of installment payments on their licenses; (2) an amnesty option wherein eligible licensees surrender any licenses they choose to the Commission for subsequent auction and, in return, have all of the outstanding debt on those licenses forgiven; or (3) a prepayment option whereupon licensees may retain or return as many licenses as they desire; however, licensees electing the prepayment option must prepay the outstanding principal of any license they wish to retain. The information requested provides the FCC with the data to implement the restructuring option(s) chosen by current and former 218-219 MHz licensees. The staff will use this information to maintain data on current licensees, new installment payment terms, refunds to licensees, and spectrum returned to the FCC for auction. The information is necessary in order to enable the licensees to meet their financial obligations to the Commission that will help ensure rapid provision of 218-219 MHz service to the public.

There are no changes to this information collection. The Commission is seeking the full three-year OMB approval under the Paperwork Reduction Act (PRA).

Federal Communications Commission.
Marlene H. Dortch,
Secretary.

[FR Doc. 03-16114 Filed 6-25-03; 8:45 am]

BILLING CODE 6712-01-P